DEPARTMENT OF TRANSPORTATION

Coast Guard

33 CFR Parts 110 and 165

[CGD 09-02-013]

RIN 2115-AA98 and 2115-AA97

Safety Zone and Anchorage Regulations; Chicago Harbor, Chicago, IL

AGENCY: Coast Guard, DOT.

ACTION: Temporary final rule.

SUMMARY: The Coast Guard is establishing a temporary safety zone and suspending a portion of an anchorage area encompassed by the safety zone for the WXRT fireworks display in Chicago Harbor over Memorial Day weekend. The safety zone is necessary for the protection and safety of passengers and vessels during the fireworks display. The safety zone is intended to restrict vessel traffic from a portion of the Chicago Harbor, in particular, the Monroe Street Harbor area. During this event, vessels will be unable to enter or exit the Monroe Street Harbor.

DATES: This temporary final rule is effective from 9 p.m. (local) on May 25, 2002 through 10 p.m. (local) on May 26, 2002.

ADDRESSES: Comments and material received from the public, as well as documents indicated in this preamble as being available in the docket, are part of docket (CGD-09-02-013) and are available for inspection or copying at: U.S. Coast Guard Marine Safety Office Chicago, 215 W. 83rd Street, Burr Ridge, IL 60527 between 9:30 a.m. and 4 p.m., Monday through Friday, except Federal holidays.

FOR FURTHER INFORMATION CONTACT: Lieutenant Commander Al Echols, U.S. Coast Guard Marine Safety Office Chicago, at (630) 986-2125.

SUPPLEMENTARY INFORMATION:

Regulatory Information

We did not publish a notice of proposed rulemaking (NPRM) for this regulation. Under 5 U.S.C. 553(b)(B), the Coast Guard finds that good cause exists for not publishing an NPRM, and under 5 U.S.C. 553(d)(3), good cause exists for making this rule effective less than 30 days after publication in the Federal Register. The permit application was not received in time to publish an NRPM followed by a final rule before the necessary effective date. Delaying this rule would be contrary to the public interest of ensuring the safety of spectators and vessels during this event and immediate action is necessary to prevent possible loss of life or property. The Coast Guard has not received any complaints or negative comments previously with regard to this event.

Background and Purpose

A temporary safety zone is necessary to ensure the safety of vessels and spectators from the hazards associated with firework displays. Based on recent accidents that have occurred in other Captain of the Port zones, and the explosive hazard of fireworks, the Captain of the Port Chicago has determined firework launches in close proximity to watercraft pose significant risks to public safety and property. The likely combination of large numbers of recreational vessels, congested waterways, darkness punctuated by bright flashes of light, alcohol use, and debris falling into the water could easily result in serious injuries or fatalities. Establishing a safety zone to control vessel movement around the location of the launch platforms will help ensure the safety of person and property at these events and help minimize any risks.

Discussion of Rule

The safety zone will encompass a portion of the Monroe Street Harbor including a portion of two of the Grant Park anchorage areas (33 CFR 110.83(a) and (d)), the entrance to the Monroe Street Harbor, as well as a portion outside the breakwall for Monroe Street Harbor.

In order to avoid effectively suspending anchorage areas 110.83(a) and 110.83(d) in their entirety, this rule creates temporary anchorage areas 110.83(e) and 110.83(f) which omit from the areas described in (a) and (d) only those portions of the suspended anchorage areas impacted by the safety zone. For the duration of this rule, any vessel anchored or moored in those portions of the suspended anchorage areas that overlap the safety zone must comply with lighting requirements for vessels at anchor.

All persons and vessels shall comply with the instructions of the Coast Guard Captain of the Port or the designated on scene patrol personnel. Entry into, transiting, or anchoring within the safety zone is prohibited unless authorized by the Captain of the Port Chicago or his designated on scene representative. The Captain of the Port Chicago's designated on scene representative will be the Patrol Commander. The Captain of the Port or his designated on scene representative may be contacted via VHF Channel 16.

Regulatory Evaluation

This temporary rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979). The Coast Guard expects the economic impact of this temporary rule to be so minimal that a full Regulatory Evaluation under paragraph 10(e) of the regulatory policies and procedures of DOT is unnecessary. This determination is based on the minimal time that vessels will be restricted from the zone, and the zone is in an area where the Coast Guard expects insignificant adverse impact to mariners from the zones activation.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This temporary rule will affect the following entities, some of which might be small entities: The owners or operators of commercial vessels intending to transit a portion of an activated safety zone.

This safety zone will not have a significant economic impact on a substantial number of small entities for the following reasons: The temporary zone is only in effect for a few hours on the day of the event. Vessel traffic can safely pass outside the proposed safety zone during the event. Traffic may be allowed to pass through the safety zone under Coast Guard escort with the permission of the Captain of the Port Chicago. Before the effective period, we will issue maritime advisories widely available to users of the Port of Chicago by the Ninth Coast Guard District Local Notice to Mariners, Marine information broadcasts, and facsimile broadcasts may also be made.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This temporary rule calls for no new collection of information under the Paperwork Reduction Act of 1995 (44 U.S.C. 3501-3520).

Federalism

We have analyzed this rule under Executive Order 13132, Federalism, and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This temporary rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard has analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Environment

We have considered the environmental impact of this rule and concluded that under figure 2-1, paragraph (34)(g), of Commandant Instruction M16475.lC, this rule is categorically excluded from further environmental documentation. A “Categorical Exclusion Determination” is available in the docket for inspection or copying where indicated under ADDRESSES.

Energy Effects

We have analyzed this temporary rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects

33 CFR Part 110

Anchorage grounds.

33 CFR Part 165

Harbors, Marine safety, Navigation (water), Reporting and recordkeeping requirements, Security measures, Waterways.

For the reasons discussed in the preamble, the Coast Guard amends 33 CFR parts 110 and 165 as follows:

PART 110—ANCHORAGE REGULATIONS

1. The authority citation for part 110 continues to read as follows:

Authority: 33 U.S.C. 471, 1221 through 1236, 2030, 2035, 2071; 49 CFR 1.46 and 33 CFR 1.05-1(g).

[§ 110.83 Suspended]

2. From 9 p.m. (local time) on May 25, 2002 until 10 p.m. (local time) on May 26, 2002, § 110.83(a) and § 110.83(d) are suspended and new temporary paragraphs (e) and (f) are added to read as follows:

§ 110.83 Chicago Harbor, Ill.

* * * * *

(e) Grant Park North. Starting at 41°52′32″ N, 087°36′57.4″ W; then north to 41°52′49′ N, 087°36′57.4 W; then east to 41°52′49″ N, 087°36′55.2″ W; then north to 41°52′53.2″ N, 087°36′55.2″ W; then northeast to 41°52′57″ N, 087°36′45.1″ W; then southeast to 41°52′52.8″ N, 087°36′38.5″ W; then south to 41°52′43″ N, 087°36′38″ W; then west to 41°52′43″ N, 087°36′43″ W; then south to 41°52′32″ N, 087°36′41″ W; then west back to the starting point.

(f) Grant Park South. Starting at 41°52′31.1″ N, 087°36′57.1″ W; then east to 41°52′31.5″ N, 087°36′43″ W; then south to 41°52′28″, 087°36′43″ W; then east to 41°52′28″ N, 087°36′39″ W; then southwest to 41°52′7.8″ N, 087°36′55.2″ W; then northwest to 41°52′8.6″ N, 087°36′57.4″ W; then north back to the starting point.

PART 165—REGULATED NAVIGATION AREAS AND LIMITED ACCESS AREAS.

3. The authority citation for part 165 continues to read as follows:

Authority: 33 U.S.C. 1231; 50 U.S.C. 191, 33 CFR 1.05-1(g), 6.04-1, 6.04-6, 160.5; 49 CFR 1.46.

4. From 9 p.m. (local time) on May 25, 2002 until 10 p.m. May 26, 2002, a new temporary § 165.T09-005 is added to read as follows:

§ 165.T09-005 Safety Zone; Chicago Harbor, Chicago, Illinois.

(a) Location. The following is a safety zone: all waters of Lake Michigan encompassed by a line starting at 41° 52′43” N, 087°36′43″ W; then east to 41°52′43″ N, 087°36′16″ W; then south to 41° 52′28″ N, 087°36′16″ W; then west to 41°52′28″ N, 087°36′43″ W; then north back to the beginning (NAD 83). This area includes a portion of the Monroe Street Harbor and the Grant Park anchorage areas (33 CFR 110.83(a) and (d)), the entrance to the Monroe Street Harbor, as well as a portion outside the breakwall for Monroe Street Harbor.

(b) Effective time and date. This section is effective from 9 p.m. (local time) until 10 p.m. (local time) on May 25, 2002. In the event the fireworks display is cancelled due to inclement weather, this section is effective during these same times on May 26, 2002.

(c) Regulations. In accordance with § 165.23, entry into this zone is prohibited unless authorized by the Coast Guard Captain of the Port Chicago, or his designated on scene representative. Section 165.23 also contains other general requirements.

Dated: April 30, 2002.
James D. Hull,
Rear Admiral, U.S. Coast Guard, District Commander, Ninth Coast Guard District.

[FR Doc. 02-12314 Filed 5-15-02; 8:45 am]

BILLING CODE 4910-15-P